DEPARTMENT OF THE INTERIOR

National Park Service

[NPS-WASO-NRNHL-DTS#-36802; PPWOCRADI0, PCU00RP14.R50000]

National Register of Historic Places; Notification of Pending Nominations and Related Actions

AGENCY: National Park Service, Interior.

ACTION: Notice.

SUMMARY: The National Park Service is soliciting electronic comments on the significance of properties nominated before October 14, 2023, for listing or related actions in the National Register of Historic Places.

DATES: Comments should be submitted electronically by November 13, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before October 14, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ALABAMA

Etowah County

Gadsden Coca-Cola Bottling Plant, 644 Walnut Street, Gadsden, SG100009569

Houston County

Bank of Columbia, 105 South Main Street, Columbia, SG100009568

COLORADO

Adams County

Deza Estates, (Residential Subdivisions of Metropolitan Denver, 1940-1965 MPS), W 99th Ave, Lunceford Lane, Palmer Lane, Rapp Lane, Northglenn, MP100009565

Denver County

Nurses' Home, 871 N Bellaire St, Denver, SG100009567

Montezuma County

Exon & Rush Meat Market and Mercantile, 315 Central Ave., Dolores, SG100009564

San Miguel County

Ruble-Orendorf Mercantile, 1635 Grand Ave., Norwood, SG100009563

KANSAS

Atchison County

Julius Kuhn Block, 731-733 Commercial Street, 106-110 North 8th Street, Atchison, SG100009552

MONTANA

Richland County

Ruffatto School, 31600 Road 154, Brockton, SG100009561

Silver Bow County

Basin Creek Park Historic District, Approximately 9 miles south of Butte on Basin Creek Rd. (393), Butte vicinity, SG100009566

TENNESSEE

Shelby County

Central Gardens Historic District (Boundary Increase), Roughly bounded by Rembert Street, York, Cleveland, and Eastmoreland Avenues, Memphis, BC100009554

UTAH

Summit County

Little Bell Mine Site, (Historic Mining Resources of Park City, Utah MPS), 1 mi. w of jct. SR-224 and Twisted Branch Rd, Park City, MP100009571

Utah County

Thompson Family Farmstead, 7421 River Bottoms Road, Spanish Fork vicinity, SG100009572

An additional documentation has been received for the following resource(s):

MONTANA

Missoula County

Orange Street Tunnel, (Montana's Steel Stringer and Steel Girder Bridges MPS), Orange St. between N 2nd St. W, & W Alder St., Missoula, AD12000172

TENNESSEE

Shelby County

Central Gardens Historic District (Additional Documentation), Roughly bounded by Rembert St., York, Cleveland and Eastmoreland Aves., Memphis, AD82004040

Nomination(s) submitted by Federal Preservation Officers

The State Historic Preservation Officer reviewed the following nomination(s) and responded to the Federal Preservation Officer within 45 days of receipt of the nomination(s) and supports listing the properties in the National Register of Historic Places.

MARYLAND

Baltimore Independent City

Federal Office Building, 31 Hopkins Plaza, Baltimore, SG100009560

NEW MEXICO

Bernalillo County

Federal Building and U.S. Courthouse, 500 Gold Avenue SW, Albuquerque, SG100009558

Chaves County

Federal Building and U.S. Courthouse, 500 N Richardson Avenue, Roswell, SG100009559

TEXAS

Dallas County

U.S. Courthouse and Federal Office Building, 1100 Commerce Street, Dallas, SG100009557

Authority: Section 60.13 of 36 CFR part 60

Sherry A. Frear,
Chief, National Register of Historic Places/National Historic Landmarks Program.

[FR Doc. 2023-23661 Filed 10-25-23; 8:45 am]

BILLING CODE 4312-52-P